DEPARTMENT OF TRANSPORTATION

Office of the Secretary

Notice of Applications for Certificates of Public Convenience and Necessity and Foreign Air Carrier Permits Filed Under Subpart B (Formerly Subpart Q) During the Week Ending October 24, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2004-18639.

Date Filed: October 20, 2008.

Due Date for Answers, Conforming Applications, or Motion to Modify Scope:November 10, 2008.

Description: Supplement of TNT Airways S.A. to its application for a foreign air carrier permit to include authorization to engage in: (i) Scheduled and charter foreign air transportation of property and mail from any point or points behind any Member State of the European Union via any point or points in any Member State and via intermediate points to any point or points in the United States and beyond; (2) scheduled and charter foreign air transportation of property and mail between any point or points in the United States and any point or points in any member of the European Common Aviation Area; (3) scheduled and charter foreign cargo air transportation between any point or points in the United States and any point or points; (4) other charters; and (5) transportation authorized by any additional route rights made available to European Community carriers in the future.

Docket Number: DOT-OST-2008-0311.

Date Filed: October 24, 2008.

Due Date for Answers, Conforming Applications, or Motion to Modify Scope:November 14, 2008.

Description: Application of ExecuJet Europe GmbH (“ExecuJet”) requesting exemption and permit authority permitting ExecuJet to conduct charter foreign air transportation of persons and property to the full extent authorized by the recently signed Air Transport Agreement between the United States, the European Community and the Member States of the European Community (“US-EU Agreement”) to engage in: (1) Charter passenger foreign air transportation between any point or points behind any member state of the European Union via any point or points in any member state and via intermediate points to any point or points in the United States or beyond; (3) charter foreign passenger air transportation between any point or points in the United States and any point or points in any member of the European Common Aviation Area; (3) other charters pursuant to the prior approval requirements; and (4) transportation authorized by any additional route rights that may be made available to European Union carriers in the future.

Renee V. Wright,
Program Manager, Docket Operations, Federal Register Liaison.

[FR Doc. E8-27453 Filed 11-18-08; 8:45 am]

BILLING CODE 4910-9X-P